FEDERAL COMMUNICATIONS COMMISSION

[WC Docket No. 18-336; DA 20-1378; FRS 17262]

Implementation of the National Suicide Hotline Improvement Act of 2018

AGENCY: Federal Communications Commission

ACTION: Notice.

SUMMARY: The National Suicide Hotline Designation Act of 2020 (Suicide Hotline Act) designates 988 as the universal telephone number within the United States for the purpose of the national suicide prevention and mental health crisis hotline system within one year after enactment of the Suicide Hotline Act. It also directs the Federal Communications Commission to submit a report on location identification. This public notice seeks comment on issues to inform the location identification report, which is due to Congress by April 17, 2021. This Public Notice also clarifies that the designation of 988 as the universal telephone number within the United States for the national suicide prevention and mental health crisis hotline will take effect on October 17, 2021, which is one year after the date of enactment of the Suicide Hotline Act, and not on October 16, 2020.

DATES: Comments are due on or before December 21, 2020 and Reply Comments are due on or before January 11, 2021.

ADDRESSES: You may submit comments, identified by WC Docket No. 18-336, by any of the following methods:

Federal Communications Commission's website: http://apps.fcc.gov/ecfs/. Follow the instructions for submitting comments.

Mail: Federal Communications Commission, 45 L St. NE, Washington, DC 20554.

People with Disabilities: Contact the FCC to request reasonable accommodations (accessible format documents, sign language interpreters, CART, etc.) by email: FCC504@fcc.gov or phone: 202-418-0530 or TTY: 202-418-0432.

FOR FURTHER INFORMATION CONTACT: Michelle Sclater, michelle.sclater@fcc.gov or (202) 418-0388.

SUPPLEMENTARY INFORMATION: On October 17, 2020, the President signed the National Suicide Hotline Designation Act of 2020 into law (Suicide Hotline Act). The Suicide Hotline Act designates 988 as the universal telephone number within the United States for the purpose of the national suicide prevention and mental health crisis hotline system within one year after enactment of the Suicide Hotline Act. It also directs the Commission to submit a report on location identification. By this public notice, we seek comment on issues to inform the location identification report, which is due to Congress by April 17, 2021.

Section 5 of the Suicide Hotline Act requires the Commission to submit a report to the appropriate committees “that examines the feasibility and cost of including an automatic dispatchable location that would be conveyed with a 9-8-8 call, regardless of the technological platform used and including with calls from multi-line telephone systems,” and as such, we seek comment on these issues generally. More specifically, what is the feasibility of including location information with a 988 call? What technical issues are involved and how can they be overcome, including with respect to multi-line telephone systems? How long would an implementation process take? What are the costs involved—both the financial costs and any potential risks to consumer privacy or other non-monetary costs? We note that in addition to soliciting written public comment by this Public Notice, we will invite members of our expert advisory committee, the North American Numbering Council, to discuss and provide input on the feasibility and cost of including an automatic dispatchable location with a 988 call at a forthcoming meeting.

We also take this opportunity to clarify the 988 implementation date, as well as the effective date of the designation of 988 as the universal telephone number within the United States for the national suicide prevention and mental health crisis hotline. Prior to enactment of the Suicide Hotline Act, the Commission designated 988 as the universal telephone number within the United States for the national suicide prevention and mental health crisis hotline in a Report and Order released on July 17, 2020, and that became effective on October 16, 2020. (85 FR 57767 (Sept. 16, 2020)). The Report and Order also set an implementation date of July 16, 2022 for all telecommunications carriers, interconnected voice over internet Protocol (VoIP) providers, and one-way VoIP providers to make any network changes necessary to ensure that users can dial 988 to reach the Lifeline. The Suicide Hotline Act states that the 988 designation shall take effect one year after enactment, but is silent on implementation. The implementation deadline set forth in the Report and Order “to allow sufficient time—but no more time than necessary—for covered providers to meet the challenges of implementing 10-digit dialing in 87 area codes and of making necessary changes to their switches” therefore remains unchanged by the Suicide Hotline Act.

Although the Suicide Hotline Act does not mention the Commission's earlier designation of 988 in the Report and Order, we construe Congress's independent designation of 988 in the Suicide Hotline Act as a ratification of the Commission's designation. Accordingly, the Report and Order is unaffected by the Suicide Hotline Act, except that we now clarify that the designation of 988 as the universal telephone number within the United States for the national suicide prevention and mental health crisis hotline will take effect on October 17, 2021, which is one year after the date of enactment of the Suicide Hotline Act, and not on October 16, 2020. This clarification is necessary to make the Report and Order consistent with Congress's clear intent that designation become effective one year after the date of enactment, as stated in section 3 of the Suicide Hotline Act. To the extent necessary, we hereby waive the October 16, 2020 effective date of the designation in the Report and Order until one year after the date of enactment of the Suicide Hotline Act. This waiver is necessary to effectuate Congress's intent, and we are aware of no harm to the public interest that would be caused by adopting the effective date that Congress prescribed in the Suicide Hotline Act.

The proceeding this Notice initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Pursuant to sections 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the internet by accessing the ECFS: http://apps.fcc.gov/ecfs/.

• Paper Filers: Parties who choose to file by paper must file an original and one copy of each filing.

• Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701. U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

People with Disabilities: To request materials in accessible formats for people with disabilities (braille, large print, electronic files, audio format), send an email to fcc504@fcc.gov or call the Consumer & Governmental Affairs Bureau at 202-418-0530 (voice), 202-418-0432 (TTY).

Federal Communications Commission.
Daniel Kahn,
Associate Bureau Chief, Wireline Competition Bureau.

[FR Doc. 2020-26917 Filed 12-7-20; 8:45 am]

BILLING CODE 6712-01-P